DEPARTMENT OF HEALTH AND HUMAN SERVICES

Centers for Medicare & Medicaid Services

Privacy Act of 1974; Matching Program

AGENCY: Centers for Medicare & Medicaid Services (CMS), Department of Health and Human Services (HHS).

ACTION: Notice of a new matching program.

SUMMARY: In accordance with subsection (e)(12) of the Privacy Act of 1974, as amended, the Department of Health and Human Services (HHS), Centers for Medicare & Medicaid Services (CMS) is providing notice of the re-establishment of a computer matching program between CMS and the Department of Homeland Security (DHS)/United States Citizenship and Immigration Services (USCIS), “Verification of United States Citizenship and Immigration Status Data for Eligibility Determinations.”

DATES: The deadline for comments on this notice is April 12, 2021. The re-established matching program will commence not sooner than 30 days after publication of this notice, provided no comments are received that warrant a change to this notice. The matching program will be conducted for an initial term of 18 months (from approximately April 20, 2021 to October 19, 2022) and within three months of expiration may be renewed for one additional year if the parties make no change to the matching program and certify that the program has been conducted in compliance with the matching agreement.

ADDRESSES: Interested parties may submit comments on the new matching program by mail at: Director, Division of Security, Privacy Policy & Governance, Information Security & Privacy Group, Office of Information Technology, CMS, 7500 Security Blvd., Baltimore, MD 21244-1870, Mailstop: N1-14-56, or by email to: michael.pagels@cms.hhs.gov.

FOR FURTHER INFORMATION CONTACT: If you have questions about the matching program, you may contact Anne Pesto, Senior Advisor, Marketplace Eligibility and Enrollment Group, Center for Consumer Information and Insurance Oversight, Centers for Medicare & Medicaid Services, at 410-786-3492, by email at anne.pesto@cms.hhs.gov, or by mail at 7500 Security Blvd., Baltimore, MD 21244.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Barbara Demopulos,
Privacy Advisor, Division of Security, Privacy Policy and Governance, Office of Information Technology, Centers for Medicare & Medicaid Services.

Participating Agencies

The Department of Health and Human Services (HHS), Centers for Medicare & Medicaid Services (CMS) is the recipient agency, and the Department of Homeland Security (DHS), United States Citizenship and Immigration Services (USCIS) is the source agency.

Authority for Conducting the Matching Program

The principal authority for conducting the matching program is 42 U.S.C. 18001 et seq.

Purpose(s)

The matching program will provide CMS with USCIS data which CMS and state-based administering entities will use to determine individuals' eligibility for initial enrollment in a Qualified Health Plan through an Exchange established under the Patient Protection and Affordable Care Act, for Insurance Affordability Programs (IAPs), and for certificates of exemption from the shared responsibility payment; and to make eligibility redeterminations and renewal decisions, including appeal determinations. IAPs include:

1. Advance payments of the premium tax credit (APTC) and cost sharing reductions (CSRs),

2. Medicaid,

3. Children's Health Insurance Program (CHIP), and

4. Basic Health Program (BHP).

Categories of Individuals

The individuals whose information will be used in the matching program are consumers (applicants and enrollees) who receive the eligibility determinations and redeterminations described in the preceding Purpose(s) section.

Categories of Records

The categories of records used in the matching program are identity, citizenship, and immigration status records. The data elements are described below.

To request information from USCIS, CMS will submit a file to SSA that contains the following mandatory data elements: Last Name; First Name; Middle Name; Date of Birth; One or More Immigration Number(s) (e.g., Alien Registration/USCIS Number, Arrival-Departure Record I-94 Number, SEVIS ID Number, Certificate of Naturalization Number, Certificate of Citizenship Number, or Unexpired Foreign Passport Number); and Other Information From Immigration Documentation (e.g., Country of Birth, Date of Entry, Employment Authorization Category).

When USCIS is able to match the information provided by CMS, USCIS will provide CMS with the following about each individual, as relevant: Last Name; First Name; Middle Name; Date of Birth; One or More Immigration Number(s) (e.g., Alien Registration/USCIS Number, Arrival-Departure Record I-94 Number, SEVIS ID Number, Certificate of Naturalization Number, Certificate of Citizenship Number, or Unexpired Foreign Passport Number); Citizenship or Immigration Data (e.g., immigration class of admission and/or employment authorization); Sponsorship Data (e.g., name, address, and social security number of Form I-864/I-864EZ sponsors and Form I-864A household members, when applicable); and Case Verification Number.

System(s) of Records

The records used in this matching program are disclosed from the following systems of records, as authorized by routine uses published in the System of Records Notices (SORNs) cited below:

A. System of Records Maintained by CMS

CMS Health Insurance Exchanges System (HIX), System No. 09-70-0560, last published in full at 78 FR 63211 (Oct. 23, 2013), and amended at 83 FR 6591 (Feb. 14, 2018). Routine use 3 supports CMS' disclosures to USCIS for use in this matching program.

B. System of Records Maintained by USCIS

DHS/USCIS-004 Systematic Alien Verification for Entitlements Program, 85 FR 31798 (May 27, 2020). Routine use I permits USCIS' disclosures to CMS.

[FR Doc. 2021-05192 Filed 3-11-21; 8:45 am]

BILLING CODE 4120-03-P